DEPARTMENT OF HEALTH AND HUMAN SERVICES

National Institutes of Health

National Heart, Lung, and Blood Institute; Amended Notice of Meeting

Notice is hereby given of a change in the meeting of the Sickle Cell Disease Advisory Committee, January 29, 2024, 10:00 a.m. to January 29, 2024, 3:00 p.m., National Institutes of Health, Rockledge I, 6705 Rockledge Drive, Bethesda, MD 20892 which was published in the Federal Register on September 28, 2023, FR Doc 2023-21315, 88 FR 67324.

This Notice is being amended to update the Registration Link. The event is free and open to the public; however, registration is required. Please use this included link to register: https://nih.zoomgov.com/webinar/register/WN_X-5kA5CJQG6Qmk_ujQsqAw.

Dated: November 7, 2023.
Melanie J. Pantoja,
Program Analyst, Office of Federal Advisory Committee Policy.

[FR Doc. 2023-24962 Filed 11-9-23; 8:45 am]

BILLING CODE 4140-01-P